DEPARTMENT OF TRANSPORTATION

Federal Aviation Administration

14 CFR Part 71

[Docket No. FAA-2019-0598; Airspace Docket No. 19-ASO-16]

RIN 2120-AA66

Amendment of the Class D and Class E Airspace; Meridian, MS

AGENCY: Federal Aviation Administration (FAA), DOT.

ACTION: Final rule.

SUMMARY: This action amends the Class D airspace at Joe Williams NOLF, Meridian, MS; Key Field, Meridian, MS; and NAS Meridian/McCain Field, Meridian, MS; the Class E airspace area designated as an extension to Class D airspace at Key Field; and the Class E airspace extending upward from 700 feet above the surface at Key Field, Joe Williams NOLF, and NAS Meridian/McCain Field. This action is due to an airspace review caused by the decommissioning of the Kewanee VHF omnidirectional range (VOR) navigation aid, which provided navigation information for the instrument procedures at these airports, as part of the VOR Minimum Operational Network (MON) Program. The names and geographic coordinates of NAS Meridian/McCain Field and Joe Williams NOLF, and the geographic coordinates of Key Field are also being updated to coincide with the FAA's aeronautical database. Airspace redesign is necessary for the safety and management of instrument flight rules (IFR) operations at these airports.

DATES: Effective 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace at Joe Williams NOLF, Meridian, MS; Key Field, Meridian, MS; and NAS Meridian/McCain Field, Meridian, MS; the Class E airspace area designated as an extension to Class D airspace at Key Field; and the Class E airspace extending upward from 700 feet above the surface at Key Field, Joe Williams NOLF, and NAS Meridian/McCain Field to support IFR operations at these airports.

History

The FAA published a notice of proposed rulemaking in the Federal Register (84 FR 47909; September 11, 2019) for Docket No. FAA-2019-0598 to amend the Class D airspace at Joe Williams NOLF, Meridian, MS; Key Field, Meridian, MS; and NAS Meridian/McCain Field, Meridian, MS; the Class E airspace area designated as an extension to Class D airspace at Key Field; and the Class E airspace extending upward from 700 feet above the surface at Key Field, Joe Williams NOLF, and NAS Meridian/McCain Field. Interested parties were invited to participate in this rulemaking effort by submitting written comments on the proposal to the FAA. One comment was received supporting the proposal. No response is provided.

Class D and E airspace designations are published in paragraph 5000, 6004, and 6005, respectively, of FAA Order 7400.11D, dated August 8, 2019, and effective September 15, 2019, which is incorporated by reference in 14 CFR 71.1. The Class D and E airspace designations listed in this document will be published subsequently in the Order.

Differences From the NPRM

Subsequent to publication of the NPRM, the FAA discovered a typographic error in the airspace legal description for the Class E airspace extending upward from 700 feet above the surface at Key Field, Meridian, MS. The extension from the Meridian VORTAC 141° to the southeast should extend from the 7-mile radius of Key Field vice the 4.5-mile radius. That typographic error is corrected in this action.

Additionally, the FAA discovered that the proposed airspace legal description for the Class E airspace extending upward from 700 feet above the surface at Meridian, MS, left gaps in the continuity of the airspace. To make the airspace continuous, the following changes are being made: The first extension reading, “. . . and within 1 mile each side of the 009° bearing from Key Field extending from the 7-mile radius of Key Field to 12.5 miles north of Key Field . . .” is being changed to, “. . . and within 1 mile west and 1.6 miles east of the 009° bearing from Key Field extending from the 7-mile radius of Key Field to 12.5 miles north of Key Field . . .” in this action; and the third extension reading, “. . . and within 2 miles each side of the 044° bearing from Key Field extending from the 7-mile radius of Key Field to 11.6 miles northeast of Key Field. . .” is being changed to, “. . . and within 2.2 miles west and 2 miles east of the 044° bearing from Key Field extending from the 7-mile radius of Key Field to 11.6 miles northeast of Key Field . . .” in this action. These changes only fill the gaps and complete the continuity of the Class E airspace extending upward from 700 feet above the surface at Meridian, MS, and do not expand the airspace; therefore, these amendments to the Class E airspace extending upward from 700 feet above the surface at Meridian, MS, are included in this action.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71: Amends the Class D airspace at Joe Williams NOLF, Meridian, MS, by updating the geographic coordinates of Joe Williams NOLF to coincide with the FAA's aeronautical database, and replaces the outdated term “Airport/Facility Directory” with “Chart Supplement”; Amends the Class D airspace to within a 4.5-mile radius (reduced from a 5.3-mile radius) of Key Field, Meridian, MS; updates the city in the airspace legal description to Meridian, MS, (previously Meridian Key Field, MS) to comply with changes to FAA Order 7400.2M, Procedures for Handling Airspace Matters; removes the city listed with the airport in the airspace legal description to comply with changes to FAA Order 7400.2M; updates the geographic coordinates of Key Field to coincide with the FAA's aeronautical database; and replaces the outdated term “Airport/Facility Directory” with “Chart Supplement”;

Amends the Class D airspace to within a 5.3-mile radius (reduced from a 5.8-mile radius) of NAS Meridian/McCain Field, Meridian, MS; updates the city in the airspace legal description to Meridian, MS, (previously Meridian NAS-McCain Field, MS) to comply with changes to FAA Order 7400.2M; removes the city listed with the airport in the airspace legal description to comply with changes to FAA Order 7400.2M; updates the name and geographic coordinates of NAS Meridian/McCain Field (previously NAS-McCain Field) to coincide with the FAA's aeronautical database; adds an extension 1 mile each side of the 009° bearing from the airport extending from the 5.3-mile radius to 5.5 miles north of the airport; adds an extension 1.5 miles each side of the 189° bearing from the airport extending from the 5.3-mile radius to 6 miles from the airport; adds an extension 1.6 miles each side of the Meridian TACAN 331° radial extending from the 5.3-mile radius to 5.6 miles northwest of the Meridian TACAN; and replaces the outdated term “Airport/Facility Directory” with “Chart Supplement”;

Amends the Class E airspace area designated as an extension to a Class D airspace at Key Field by updating the city in the airspace legal description to Meridian, MS, (previously Meridian/Key Field, MS) to comply with changes to FAA Order 7400.2M; removes the city listed with the airport in the airspace legal description to comply with changes to FAA Order 7400.2M; updates the geographic coordinates of Key Field and the Meridian VORTAC to coincide with the FAA's aeronautical database; adds an extension 1 mile each side of the 009° bearing from the airport extending from the 4.5-mile radius to 4.9-miles north of the airport; adds an extension 1 mile each side of the 044° bearing from the airport extending from the 4.5-mile radius to 4.6 miles northeast of the airport; adds an extension 2.9 miles each side of the Meridian VORTAC 141° radial extending from the 4.5-mile radius to 11 miles southeast of the Meridian VORTAC; adds an extension 1 mile each side of the 189° bearing from the airport extending from the 4.5-mile radius to 4.6 miles south of the airport; adds an extension 1 mile each side of the 224° bearing from the airport extending from the 4.5-mile radius to 4.6 miles southwest of the airport; removes the extension northwest of the VORTAC; and replaces the outdated term “Airport/Facility Directory” with “Chart Supplement”;

And amends the Class E airspace extending upward from 700 feet above the surface to within a 7-mile radius (reduced from an 8-mile radius) of Key Field; adds an extension within 1 mile west and 1.6 miles east (previously 1 mile each side) of the 009° bearing from Key Field extending from the 7-mile radius to 12.5 miles north of the airport; adds an extension within 3.4 miles each side of the 009° bearing from the Key Field: RWY 19-LOC extending from the 7-mile radius of the airport to 11.1 miles north of the Key Field: RWY 19-LOC; adds an extension within 2.2 miles west and 2 miles east (previously 2 miles each side) of the 044° bearing from the airport extending from the 7-mile radius of the airport to 11.6 miles northeast of the airport; adds an extension within 3.6 miles each side of the Meridian VORTAC 141° radial extending from the 7-mile radius of the airport to 13.9 miles southeast of the Meridian VORTAC; adds an extension within 1 mile each side of the 189° bearing from the airport extending from the 7-mile radius of the airport to 12.6 miles south of the airport; adds an extension within 3.4 miles each side of the 189° bearing from the Key Field: RWY 01-LOC extending from the 7-mile radius of the airport to 11.2 miles south of the Key Field: RWY 01-LOC; amends the extension northwest of the Meridian VORTAC to within 1.5 miles (reduced from 2.5 miles) each side of the Meridian VORTAC 311° (previously 315°) radial extending from the 7-mile radius of the airport to 14.3 miles (increased from 7 miles) northwest of the Meridian VORTAC; within a 6.7 mile radius (decreased from a 7.4-mile radius) of Joe Williams NOLF, Meridian, MS; within a 7.8-mile radius (decreased from an 8-mile radius) of NAS Meridian/McCain Field; removes the extension “. . . within 4 miles each side of the 020° bearing from lat. 32°33′28″ N, long, 88°33′33″ W, extending from the 8-mile radius to 20 miles north of Meridian TACAN, and within a 25-mile radius of the Meridian VORTAC, extending clockwise from the 341° radial to the 040° radial, and within 8 miles north and 6 miles south of the Kewanee VORTAC 273° radial, extending from the VORTAC to long. 88°45′00″ W”; adds an extension 6.7 miles either side of a line from Joe William NOLF to NAS Meridian/McCain Field; updates the names of Joe William NOLF (previously Joe Williams OLF), and NAS Meridian/McCain Field (previously NAS-McCain Field) and the geographic coordinates of Key Field, Joe Williams NOLF and NAS Meridian/McCain Field to coincide with the FAA's aeronautical database; and removes the Meridian TACAN and Kewanee VORTAC from the airspace legal description.

This action is the result of an airspace review caused by the decommissioning of the Kewanee VOR, which provided navigation information for the instrument procedures at these airports, as part of the VOR MON Program.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ASO MS D Meridian, MS [Amended]

Joe Williams NOLF, MS

(Lat. 32°47′56″ N, long. 88°50′04″ W)

That airspace extending upward from the surface to and including 3,000 feet MSL within a 4.2-mile radius of Joe Williams NOLF. This Class D airspace area is effective during the specific dates and times established by a Notice to Airmen. The effective date and time will thereafter be continuously published in the Chart Supplement.

ASO MS D Meridian, MS [Amended]

Key Field, MS

(Lat. 32°19′57″ N, long. 88°45′07″ W)

That airspace extending upward from the surface to and including 2,800 feet MSL within a 4.5-mile radius of Key Field. This Class D airspace area is effective during the specific dates and times established in advance by a Notice to Airmen. The effective date and time will thereafter be continuously published in the Chart Supplement.

ASO MS D Meridian, MS [Amended]

NAS Meridian/McCain Field, MS

(Lat. 32°33′13″ N, long. 88°33′19″ W)

Meridian TACAN

(Lat. 32°34′42″ N, long. 88°32′43″ W)

That airspace extending upward from the surface to and including 2,800 feet MSL within a 5.3-mile radius of NAS Meridian/McCain Field, and within 1 mile each side of the 009° bearing from the airport extending from the 5.3 mile radius to 5.5 miles north of the airport, and within 1.5 miles each side of the 189° bearing from the airport extending from the 5.3-mile radius to 6 miles south of the airport, and within 1.6 miles each side of the Meridian TACAN 331° radial extending from the 5.3-mile radius to 5.6 miles northwest the Meridian TACAN. This Class D airspace area is effective during the specific dates and times established in advance by a Notice to Airmen. The effective date and time will thereafter be continuously published in the Chart Supplement.

Paragraph 6004 Class E Airspace Areas Designated as an Extension to a Class D or Class E Surface Area.

* * * * *

ASO MS E4 Meridian, MS [Amended]

Key Field, MS

(Lat. 32°19′57″ N, long. 88°45′07″ W)

Meridian VORTAC

(Lat. 32°22′42″ N, long. 88°48′15″ W)

That airspace extending upward from the surface within 1 mile each side of the 009° bearing from Key Field extending from the 4.5-mile radius of Key Field to 4.9 miles north of Key Field, and within 1 mile each side of the 044° bearing from Key Field extending from the 4.5-mile radius of Key Field to 4.6 miles northeast of Key Field, and within 2.9 miles each side of the Meridian VORTAC 141° radial extending from the 4.5-mile radius of Key Field to 11 miles southeast of the Meridian VORTAC, and within 1 mile each side of the 189° bearing from Key Field extending from the 4.5-mile radius of Key Field to 4.6 miles south of Key Field, and within 1 mile each side of the 224° bearing from Key Field extending from the 4.5-mile radius of Key Field to 4.6 miles southwest of Key Field. This Class E airspace area is effective during the specific dates and times established in advance by a Notice to Airmen. The effective date and time will thereafter be continuously published in the Chart Supplement.

Paragraph 6005 Class E Airspace Areas Extending Upward From 700 feet or More Above the Surface of the Earth.

* * * * *

ASO MS E5 Meridian, MS [Amended]

Key Field, MS

(Lat. 32°19′57″ N, long. 88°45′07″ W)

Key Field: RWY 19-LOC

(Lat. 32°18′54″ N, long. 88°45′25″ W)

Meridian VORTAC

(Lat. 32°22′42″ N, long. 88°48′15″ W)

Key Field: RWY 01-LOC

(Lat. 32°20′52″ N, long. 88°45′02″ W)

Joe Williams NOLF, MS

(Lat. 32°47′56″ N, long. 88°50′04″ W)

NAS Meridian/McCain Field, MS

(Lat. 32°33′13″ N, long. 88°33′19″ W)

That airspace extending upward from 700 feet above the surface within a 7-mile radius of Key Field, and within 1 mile west and 1.6 miles of the 009° bearing from Key Field extending from the 7-mile radius of Key Field to 12.5 miles north of Key Field, and within 3.4 miles each side of the 009° bearing from the Key Field: RWY 19-LOC extending from the 7-mile radius of Key Field to 11.1 miles north of the Key Field: RWY 19-LOC, and within 2.2 miles west and 2 miles east of the 044° bearing from Key Field extending from the 7-mile radius of Key Field to 11.6 miles northeast of Key Field, and within 3.6 miles each side of the Meridian VORTAC 141° radial extending from the 7-mile radius of Key Field to 13.9 miles southeast of the Meridian VORTAC, and within 1 mile each side of the 189° bearing from Key Field extending from the 7-mile radius of Key Field to 12.6 miles south of Key Field, and within 3.4 miles each side of the 189° bearing from the Key Field: RWY 01-LOC extending from the 7-mile radius of Key Field to 11.2 miles south of the Key Field: RWY 01-LOC, and within 1.5 miles each side of the Meridian VORTAC 311° radial extending from the 7-mile radius of Key Field to 14.3 miles northwest of the Meridian VORTAC, and within a 6.7-mile radius of Joe Williams NOLF, and within a 7.8-mile radius of NAS Meridian/McCain Field, and within 6.7 miles each side of a line from Joe Williams NOLF to NAS Meridian/McCain Field.

Issued in Fort Worth, Texas, on January 22, 2020.
Steve Szukula,
Acting Manager, Operations Support Group, ATO Central Service Center.

[FR Doc. 2020-01568 Filed 1-29-20; 8:45 am]

BILLING CODE 4910-13-P